DEPARTMENT OF STATE

[Public Notice 3426]

Culturally Significant Objects Imported for Exhibition Determinations: “European Masterpieces: Six Centuries of Paintings From the National Gallery of Victoria, Australia”

AGENCY: Department of State.

ACTION: Notice

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “European Masterpieces: Six Centuries of Paintings from the National Gallery of Victoria, Australia,” imported from abroad for the temporary exhibition without profit within the United States, are of cultural significance. The objects are imported pursuant to a loan agreement with the foreign lender. I also determine that the exhibition or display of the exhibit objects at the Cincinnati Art Museum, in Cincinnati, Ohio from on or about October 27, 2000 to on or about January 14, 2001, the Kimbell Art Museum in Fort Worth, Texas, from on or about March 18, 2001 to on or about May 26, 2001, the Denver Art Museum in Denver, Colorado from on or about June 23, 2001 to on or about September 9, 2001 and the Portland Art Museum in Portland, Oregon to on or about October 6, 2001 to on or about January 6, 2002 is in the national interest. Public Notice of these Determinations is ordered to be published in the Federal Register.

FOR FURTHER INFORMATION CONTACT: For further information, including a list of the exhibit objects, contact Carol Epstein, Attorney-Adviser, Office of the Legal Adviser, U.S. Department of State (telephone: 202/619-6981). The address is U.S. Department of State, SA-44, 301 4th Street, SW., Room 700, Washington, DC 20547-0001.

Dated: September 27, 2000.
William B. Bader,
Assistant Secretary for Educational and Cultural Affairs, Department of State.

[FR Doc. 00-25371 Filed 10-2-00; 8:45 am]

BILLING CODE 4710-08-U